DEPARTMENT OF HOUSING AND URBAN DEVELOPMENT

[Docket No. FR-7050-N-69]

30-Day Notice of Proposed Information Collection: Public Housing Reform Act: Changes to Admission and Occupancy Requirements; OMB Control No.: 2577-0230

AGENCY: Office of Policy Development and Research, Chief Data Officer, HUD.

ACTION: Notice.

SUMMARY: HUD is seeking approval from the Office of Management and Budget (OMB) for the information collection described below. In accordance with the Paperwork Reduction Act, HUD is requesting comment from all interested parties on the proposed collection of information. The purpose of this notice is to allow for an additional 30 days of public comment.

DATES: Comments Due Date: February 2, 2023.

ADDRESSES: Interested persons are invited to submit comments regarding this proposal. Written comments and recommendations for the proposed information collection should be sent within 30 days of publication of this notice to OIRA_submission@omb.eop.gov or www.reginfo.gov/public/do/PRAMain. Find this particular information collection by selecting “Currently under 30-day Review—Open for Public Comments” or by using the search function.

FOR FURTHER INFORMATION CONTACT: Colette Pollard, Reports Management Officer, QDAM, Department of Housing and Urban Development, 451 7th Street SW, Washington, DC 20410; email Colette Pollard at Colette.Pollard@hud.gov or telephone 202-402-3400. This is not a toll-free number. HUD welcomes and is prepared to receive calls from individuals who are deaf or hard of hearing, as well as individuals with speech or communication disabilities. To learn more about how to make an accessible telephone call, please visit https://www.fcc.gov/consumers/guides/telecommunications-relay-service-trs.

Copies of available documents submitted to OMB may be obtained from Ms. Pollard.

SUPPLEMENTARY INFORMATION: This notice informs the public that HUD is seeking approval from OMB for the information collection described in Section A.

The Federal Register notice that solicited public comment on the information collection for a period of 60 days was published on August 31, 2022 at 87 FR 53482.

This notice informs the public that HUD is seeking approval from OMB for the information collection described in Section A.

A. Overview of Information Collection

Title of Information Collection: Public Housing Reform Act: Changes to Admission and Occupancy Requirements.

OMB Approval Number: 2577-0230.

Type of Request: Revision of currently approved collection.

Form Number: N/A.

Description of the Need for the Information and Proposed Use:

This collection of information implements changes to the admission and occupancy requirements for the public housing program made by the Quality Housing and Work Responsibility (QHWRA) Act of 1998 (Title V of the FY 1999 HUD appropriations Act, Public Law 105-276, 112 Stat. 2518, approved October 21, 1998), and the Housing Opportunity Through Modernization Act of 2016 (HOTMA), section 103, which amends the United States Housing Act of 1937. Both QHWRA and HOTMA made comprehensive changes to HUD's public housing program. These changes include defining an `over-income family' as one having an annual income 120 percent above the median income for the area for two consecutive years and includes new mandatory annual reporting requirements on the number of over-income families residing in public housing and the total number of families on the public housing waiting lists at the end of each reporting year.

The purpose of the admission and occupancy policy requirement is to ensure that public housing agencies have written documentation of their respective admission and occupancy policies for both the public and the Department of Housing and Urban Development (HUD). Public housing authorities must have on hand and available for inspection, policies related to admission and occupancy, to respond to inquiries from tenants, legal-aid services, HUD, and other interested parties informally or through the Freedom of Information Act of policies relating to eligibility for admission and continued occupancy, local preferences, income limitations, and rent determination. HOTMA now requires PHAs to make an update to their Admission and Occupancy policy to apply local over-income limits, and annually report on the number of over-income families living in their public housing units as well as the number of families on the public housing waiting list.

Additional revisions have been made to this collection to reflect adjustments in calculations based on the total number of current, active public housing agencies (PHAs) to date. The number of active public housing agencies has changed from 2,897 to 2,774 ¹ since the last approved information collection. In general, the number of PHAs can fluctuate due to many factors, including but not limited to the merging of two or more PHAs or the termination of the public housing programs due to the Rental Assistance Demonstration.

¹ The Public Housing (PH) Data Dashboard as of 5/16/22, https://www.hud.gov/program_offices/public_indian_housing/programs/ph/PH_Dashboard.

Lastly, to provide an opportunity to respondents to review, this notice includes a burden statement that will able be made available on HUD's website:

The public reporting burden for this collection of information for the Admission and Occupancy Requirements of Public Housing is estimated to average 24 hours, including the time for reviewing instructions, searching existing data sources, gathering, and maintaining the data needed, and completing and reviewing the collection of information.

Send comments regarding this burden estimate or any other aspect of this collection of information, including suggestions to reduce this burden, to the Reports Management Officer, Paperwork Reduction Project, to the Office of Information Technology, U.S. Department of Housing and Urban Development, Washington, DC 20410-3600. When providing comments, please refer to OMB Approval No. 2577-0230. HUD may not conduct and sponsor, and a person is not required to respond to, a collection of information unless the collection displays a valid control number.

This collection of information is required to ensure that public housing agencies have written documentation of their respective admission and occupancy policies for both the public and HUD pursuant to regulations found at 24 CFR 903.7 and 960. The information will be used to provide HUD with sufficient information to enable a determination that HUD statutory and regulatory requirements have been met. No assurances of confidentiality are provided for this information collection.

Respondents: State, local or Tribal government.

Estimated Number of Respondents: 2,774.

Estimated Number of Responses: 2,774.

Frequency of Response: 1.

Average Hours per Response: 24.

Total Estimated Burdens: 66,576.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

(5) Ways to minimize the burden of the collection of information on those who are to respond, including the use of automated collection techniques or other forms of information technology.

HUD encourages interested parties to submit comment in response to these questions.

Authority: Section 3507 of the Paperwork Reduction Act of 1995, 44 U.S.C. chapter 35.

Colette Pollard,
Department Reports Management Officer, Office of Policy Development and Research, Chief Data Officer.

[FR Doc. 2022-28507 Filed 12-30-22; 8:45 am]

BILLING CODE 4210-67-P